DEPARTMENT OF COMMERCE

Patent and Trademark Office

[Docket No.: PTO-C-2025-0016]

Request for Comments on OECD's Working Party on Countering Illicit Trade (WP-CIT) Draft Voluntary Guidelines for Countering Illicit Trade in Counterfeit Goods on Online Marketplaces; Reopening of Comment Period

AGENCY: United States Patent and Trademark Office, Department of Commerce.

ACTION: Request for comments; reopening of comment period.

SUMMARY: The United States Patent and Trademark Office (USPTO) is reopening the comment period for the notice titled “Request for Comments on OECD's Working Party on Countering Illicit Trade (WP-CIT) Draft Voluntary Guidelines for Countering Illicit Trade in Counterfeit Goods on Online Marketplaces” that was published in the Federal Register on May 19, 2025. The comment period is reopened until August 26, 2025.

DATES: The comment period for the notice published on May 19, 2025, at 90 FR 21291, is reopened until August 26, 2025.

ADDRESSES:

(1) Electronic Submissions: Submit all electronic comments via the Federal e-Rulemaking Portal at www.regulations.gov (at the homepage, enter “PTO-C-2025-0016” in the “Search” box, select the “Comment” icon, complete the required fields, and enter or attach your comments). The materials in the docket will not be edited to remove identifying or contact information, and the USPTO cautions against including any information in an electronic submission that the submitter does not want publicly disclosed. Attachments to electronic comments will be accepted only in Microsoft Word, Microsoft Excel, or Adobe PDF formats. Comments containing references to studies, research, and other empirical data that are not widely published should include copies of the referenced materials. Please do not submit additional materials. If you want to submit a comment with confidential business information that you do not wish to be made public, please submit the comment as a written/paper submission in the manner detailed below.

(2) Written/Paper Submissions: Send all written/paper submissions to: United States Patent and Trademark Office, Mail Stop OPIA, P.O. Box 1450, Alexandria, VA 22314. Submission packaging should clearly indicate that materials are responsive to Docket No. PTO-C-2025-0016, Office of Policy and International Affairs, Comment Request; Call for Feedback on OECD's Working Party on Countering Illicit Trade (WP-CIT) Draft Voluntary Guidelines for Countering Illicit Trade in Counterfeit Goods on Online Marketplaces.

Submissions of Confidential Business Information: Any submissions containing confidential business information must be delivered in a sealed envelope marked “confidential treatment requested” to the address listed above. Submitters should provide an index listing the document(s) or information they would like the USPTO to withhold. The index should include information such as numbers used to identify the relevant document(s) or information, document title(s) and description(s), and relevant page numbers and/or section numbers within a document. Submitters should provide a statement explaining their grounds for objecting to the disclosure of the information to the public. The USPTO also requests that submitters of confidential business information include a non-confidential version (either redacted or summarized) of those confidential submissions that will be available for public viewing and posted on www.regulations.gov. In the event that the submitter cannot provide a non-confidential version of its submission, the USPTO requests that the submitter post a notice in the docket stating that it has provided the USPTO with confidential business information. Should a submitter fail to docket a non-confidential version of its submission or post a notice that confidential business information has been provided, the USPTO will note the receipt of the submission on the docket with the submitter's organization or name (to the degree permitted by law) and the date of submission.

FOR FURTHER INFORMATION CONTACT: Ameen Imam, USPTO, Office of Policy and International Affairs, at ameen.imam@uspto.gov. Please direct media inquiries to the Office of the Chief Communications Officer, USPTO, at 571-272-8400.

SUPPLEMENTARY INFORMATION: On May 19, 2025, the USPTO sought input from all interested parties, but in particular, from intellectual property rights holders, online marketplaces and platforms, consumers, sellers and other private sector stakeholders, regarding their insights, evaluation of the best practices and any remaining gaps in the Draft Voluntary Guidelines for Countering Illicit Trade in Counterfeit Goods on Online Marketplaces. See Request for Comments on OECD's Working Party on Countering Illicit Trade (WP-CIT) Draft Voluntary Guidelines for Countering Illicit Trade in Counterfeit Goods on Online Marketplaces, 90 FR 21291. The notice requested public comments on or before June 27, 2025.

In response to requests from stakeholders asking for additional time to submit comments, the USPTO is reopening the written comment period to ensure that all interested parties have a sufficient opportunity to submit comments on this matter. All other information provided in the May 19, 2025 notice remains unchanged. Previously submitted comments do not need to be resubmitted.

Coke Morgan Stewart,
Acting Under Secretary of Commerce for Intellectual Property and Acting Director of the United States Patent and Trademark Office.

[FR Doc. 2025-12535 Filed 7-3-25; 8:45 am]

BILLING CODE 3510-16-P